DEPARTMENT OF COMMERCE

International Trade Administration

Environmental Technologies Trade Advisory Committee (ETTAC) Public Meeting

AGENCY: International Trade Administration, DOC.

ACTION: Notice of an open meeting of a Federal Advisory Committee.

SUMMARY: This notice sets forth the schedule and proposed agenda of a meeting of the Environmental Technologies Trade Advisory Committee (ETTAC).

DATES: The meeting is scheduled for Tuesday, July 24, 2018 from 9:00 a.m.-2:00 p.m. Eastern Daylight Time (EDT). The deadline for members of the public to register or to submit written comments for dissemination prior to the meeting is 5:00 p.m. EDT on Friday, July 13, 2018. The deadline for members of the public to request auxiliary aids is 5:00 p.m. EDT on Friday, July 13, 2018.

ADDRESSES: The meeting will take place at the U.S. Department of Commerce, 1401 Constitution Avenue NW, Washington, DC 20230. The address to register and obtain call-in information; submit comments; or request auxiliary aids is: Ms. Amy Kreps, Office of Energy & Environmental Industries (OEEI), International Trade Administration, Room 28018, 1401 Constitution Avenue NW, Washington, DC 20230 or email: amy.kreps@trade.gov.

FOR FURTHER INFORMATION CONTACT: Ms. Amy Kreps, Office of Energy & Environmental Industries (OEEI), International Trade Administration, Room 28018, 1401 Constitution Avenue, NW, Washington, DC 20230 (Phone: 202-482-3835; Fax: 202-482-5665; email: amy.kreps@trade.gov)

SUPPLEMENTARY INFORMATION: The meeting will take place on July 24 from 9:30 a.m. to 2:00 p.m. EDT. The general meeting is open to the public and time will be permitted for public comment from 1:30-2:00 p.m. EDT. Members of the public seeking to attend the meeting are required to register in advance. Those interested in attending must provide notification by Friday, July 13, 2018 at 5:00 p.m. EDT, via the contact information provided above. This meeting is physically accessible to people with disabilities. Requests for sign language interpretation or other auxiliary aids should be directed to OEEI at (202) 482-3835 no less than one week prior to the meeting. Requests received after this date will be accepted, but it may not be possible to accommodate them.

Written comments concerning ETTAC affairs are welcome any time before or after the meeting. To be considered during the meeting, written comments must be received by Friday, July 13, 2018 at 5:00 p.m. EDT to ensure transmission to the members before the meeting. Minutes will be available within 30 days of this meeting.

Topic to be considered: At this final meeting of the current (2016-2018) ETTAC charter, interagency representatives of the Trade Promotion Coordinating Committee's Environmental Trade Working Group (TPCC ETWG) will respond to the recommendations that the ETTAC presented to the Secretary of Commerce's designee on May 15. The meeting will be co-chaired by senior officials from the International Trade Administration and the U.S. Environmental Protection Agency. The ETTAC's recommendations cover two primary themes: (1) Recommendations regarding how the U.S. Government can help level the playing field, address barriers and increase opportunities for U.S. environmental exporters through market development efforts, export financing, and trade policy engagements and negotiations; and recommendations aimed at improving the overall quality of services delivered by the U.S. Government to U.S. environmental exporters through enhancements to digital tools aimed at improving lead generation, lead dissemination, and metrics and tracking. The recommendations were developed by the ETTAC's three subcommittees: Trade Promotion and Export Market Development, Professional Services and Infrastructure Advancement, and Trade Policy and American Competitiveness. OEEI will make the final agenda available to the public at least one week prior to the meeting. Please email amy.kreps@trade.gov or contact 202-482-3835 for a copy.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was originally chartered in May of 1994. It was most recently re-chartered until August 2018.

Dated: July 9, 2018.
Man Cho,
Deputy Director, Office of Energy and Environmental Industries.

[FR Doc. 2018-14994 Filed 7-12-18; 8:45 am]

BILLING CODE 3510-DR-P